DEPARTMENT OF COMMERCE

National Oceanic and Atmospheric Administration

RIN 0648-XF719

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Scientific and Statistical Committee (SSC). See SUPPLEMENTARY INFORMATION.

DATES: The SSC will meet Tuesday, October 24, 2017, from 1:30 p.m. until 5:30 p.m.; Wednesday, October 25, 2017, from 8:30 a.m. until 5:30 p.m. and Thursday, October 26, 2017, from 8:30 a.m. until 3 p.m.

ADDRESSES: Meeting address: The meeting will be held at the Town & Country Inn and Suites, 2008 Savannah Hwy, Charleston, SC 29407; phone: (800) 334-6660 or (843) 571-1000; fax: (843) 766-9444.

Council address: South Atlantic Fishery Management Council, 4055 Faber Place Drive, Suite 201, N. Charleston, SC 29405.

FOR FURTHER INFORMATION CONTACT: Kim Iverson, Public Information Officer, 4055 Faber Place Drive, Suite 201, North Charleston, SC 29405; phone: (843) 571-4366 or toll free (866) SAFMC-10; fax: (843) 769-4520; email: kim.iverson@safmc.net.

SUPPLEMENTARY INFORMATION: The following items will be discussed by the SSC during the meeting:

1. Updates on 2016-17 landings, Annual Catch Limits (ACLs), Acceptable Biological Catches (ABCs), and Accountability Measures (AMs).

2. Updates on recent Southeast Data Assessment and Review (SEDAR) stock assessment program activities, the long-term assessment scheduling approach, and Council future assessment priorities; approve Terms of Reference, schedule, and identify participants for the Cobia Stock Identification Workshop, Greater Amberjack, and Red Porgy assessments; approve the revised Terms of Reference for SEDAR 55 assessment for Vermilion Snapper.

3. Discuss a NOAA Fisheries' Southeast Fisheries Science Center (SEFSC) report on the feasibility of a Gray Triggerfish assessment.

4. Review updated Red Grouper projections and provide fishing level recommendations.

5. Review the SEDAR 50 Blueline Tilefish assessment and provide fishing level recommendations.

6. Review the revised Golden Tilefish assessment and provide fishing level recommendations.

7. Discuss ABC Control Rule modifications.

8. Review Amendment 46 to the Snapper Grouper Fishery Management Plan addressing red snapper and evaluate SEFSC Index Projection methodology progress.

9. Review and comment on the Commercial and Recreational Snapper Grouper Visioning Amendments.

10. Review the South Atlantic Ecosystem Model and provide recommendations for future direction and utility of this tool.

11. Discuss the Wreckfish Individual Transferable Quota (ITQ) Program Review.

12. Receive updates and progress reports on ongoing Council amendments and activities including the Citizen Science Program.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Written comment on SSC agenda topics is to be distributed to the Committee through the Council office, similar to all other briefing materials. Written comment to be considered by the SSC shall be provided to the Council office no later than one week prior to an SSC meeting. For this meeting, the deadline for submission of written comment is 12 p.m. Tuesday, October 17, 2017.

Multiple opportunities for comment on agenda items will be provided during SSC meetings. Open comment periods will be provided at the start of the meeting and near the conclusion. Those interested in providing comment should indicate such in the manner requested by the Chair, who will then recognize individuals to provide comment. Additional opportunities for comment on specific agenda items will be provided, as each item is discussed, between initial presentations and SSC discussion. Those interested in providing comment should indicate such in the manner requested by the Chair, who will then recognize individuals to provide comment. All comments are part of the record of the meeting.

Special Accommodations

This meeting is accessible to people with disabilities. Requests for auxiliary aids should be directed to the Council office (see ADDRESSES) at least 5 business days prior to the meeting.

Note: The times and sequence specified in this agenda are subject to change.

Authority: 16 U.S.C. 1801 et seq.

Dated: October 2, 2017.
Jeffrey N. Lonergan,
Acting Deputy Director, Office of Sustainable Fisheries, National Marine Fisheries Service.

[FR Doc. 2017-21465 Filed 10-4-17; 8:45 am]

BILLING CODE 3510-22-P